DEPARTMENT OF HOUSING AND URBAN DEVELOPMENT

[Docket No. FR-5409-N-01]

Notice of Web Availability: Notice of Fiscal Year (FY) 2010 Opportunity To Register and Other Important Information for Electronic Application Submission for Continuum of Care Homeless Assistance Programs

AGENCY: Office of the Assistant Secretary for Community Planning and Development, HUD.

ACTION: Notice.

SUMMARY: Through today's Notice, HUD announces the availability on its Web site of its Notice of FY2010 Opportunity to Register and Other Important Information for Electronic Application Submission for the Continuum of Care Homeless Assistance Program (CoC Registration Notice). The CoC Registration Notice provides instructions to potential Continuums of Care (CoCs) applying for the approximately $1.68 billion of funding under HUD's Continuum of Care Homeless Assistance Competition in FY2010. The CoC competition uses an electronic system outside of grants.gov for CoC registration as well as for submission of the CoC application called e-snaps. The CoC Registration Notice provides information to assist applicants understand the CoC registration and electronic application submission process through e-snaps, which is located at http://www.hud.gov/esnaps. Notification of the availability of the 2010 CoC application will be released via HUD's Homeless Assistance listserv. To join HUD's listserv, go to http://www.hud.gov/subscribe/mailinglist.cfm and click on “Homeless Assistance Program.”

The CoC Registration Notice providing this information is available on the HUD Web site at http://portal.hud.gov/portal/page/portal/HUD/program_offices/administration/grants/fundavail#avail and http://www.hudhre.info/documents/FY2010CoCNOFA_Registration.pdf.

FOR FURTHER INFORMATION CONTACT: CoCs may contact the HUD Field Office serving their area, at the telephone number shown at http://portal.hud.gov/portal/page/portal/HUD/localoffices. In addition, applicants are strongly encouraged to send questions regarding this Notice to HUD via the Virtual Help Desk at http://www.hudhre.info/index.cfm?do=viewFaqs. Applicants that do not have Internet access and need to obtain a copy of a NOFA can contact HUD's NOFA Information Center toll free, at 800-HUD-8929. Persons with hearing or speech impairments may access this number, toll free, via TTY by calling the Federal Information Relay Service at 800-877-8339. The NOFA Information Center is open between the hours of 10 a.m. and 6:30 p.m. eastern time, Monday through Friday, except federal holidays.

Dated: April 20, 2010.
Mercedes Márquez,
Assistant Secretary for Community Planning and Development.

[FR Doc. 2010-9617 Filed 4-23-10; 8:45 am]

BILLING CODE 4210-67-P